DEPARTMENT OF COMMERCE

International Trade Administration

[A-549-822]

Certain Frozen Warmwater Shrimp from Thailand; Corrected Partial Rescission of Antidumping Duty Administrative Review

AGENCY: Import Administration, International Trade Administration, Department of Commerce.

EFFECTIVE DATE: September 14, 2006.

FOR FURTHER INFORMATION CONTACT: Irina Itkin or Alice Gibbons, AD/CVD Operations, Office 2, Import Administration, International Trade Administration, U.S. Department of Commerce, 14th Street and Constitution Avenue, NW, Washington, DC, 20230; telephone (202) 482-0656 and (202) 482-0498, respectively.

SUPPLEMENTARY INFORMATION:

Background

On July 20, 2006, the Department of Commerce (the Department) published in the Federal Register its notice of partial rescission of the antidumping duty administrative review of certain frozen warmwater shrimp from Thailand for the period August 4, 2004, through January 31, 2006. See Certain Frozen Warmwater Shrimp from Thailand; Partial Rescission of Antidumping Duty Administrative Review, 71 FR 41200 (July 20, 2006) (Partial Rescission). In the Partial Rescission, the Department noted that it was rescinding the administrative review with respect to Thai Union Frozen Products Co., Ltd., based on a timely request for withdrawal. See Partial Rescission, 71 FR at 41201. However, the correct name for this company is Thai Union Frozen Products Public Co., Ltd.

Corrected Partial Rescission of Antidumping Duty Administrative Review

As noted above, the name for Thai Union Frozen Products Public Co., Ltd. was incorrectly stated in the Partial Rescission. We now correct the partial rescission of the 2004-2006 antidumping duty administrative review of certain frozen warmwater shrimp from Thailand as noted above. As a result of this correction, we are rescinding the 2004-2006 administrative review for Thai Union Frozen Products Public Co., Ltd.

This corrected partial rescission is issued and published in accordance with section 751 of the Tariff Act of 1930, as amended, and 19 CFR 351.213(d)(4).

Dated: September 11, 2006.
Stephen J. Claeys,
Deputy Assistant Secretary for Import Administration.

[FR Doc. E6-15269 Filed 9-13-06; 8:45 am]

BILLING CODE 3510-DS-S